DEPARTMENT OF VETERANS AFFAIRS

[OMB Control No. 2900—NEW]

Agency Information Collection Activity: Federal Medical Care Recovery Act Bill Requests

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice.

DATES: Written comments and recommendations on the proposed collection of information should be received on or before June 18, 2018.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900—NEW” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506 of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: 38 U.S.C. 501, 38 CFR 1.900 et seq.; 42 U.S.C. 2651-2653; 38 U.S.C. 1729; 28 CFR 43.2; and E.O. 9397.

Title: Federal Medical Care Recovery Act Bill Requests; Request for VA Billing, CHAMPVA Request for Billing.

OMB Control Number: 2900—NEW.

Type of Review: New collection.

Abstract: The purpose of collecting this information is to provide basic information from which potential liability can be assessed for VA to recover the cost of care from the liable party instead of the American taxpayer and Veteran paying for the care. Failure to provide any or all of the requested information may delay or result in VA's inability to create accident-related billing, assert a claim for reimbursement, and assist the Veteran in their personal injury or workers compensation claim. Without a third party paying for the care, the Veteran may owe VA copayments. With regards to the CHAMPVA form alone: Failure to provide any or all of the requested information may delay or result in VA's inability to provide CHAMPVA benefits.

Affected Public: Individuals and households.

Estimated Annual Burden:

Request for VA Billing—385 hours.

CHAMPVA Request for Billing—303 hours.

Estimated Average Burden per Respondent:

Request for VA Billing—7 minutes.

CHAMPVA Request for Billing—7 minutes.

Frequency of Response: Annually.

Estimated Number of Respondents:

Request for VA Billing—3,300.

CHAMPVA Request for Billing—2,600.

By direction of the Secretary.
Cynthia D. Harvey-Pryor,
Department Clearance Officer, Office of Quality, Privacy and Risk, Department of Veterans Affairs.

[FR Doc. 2018-07947 Filed 4-16-18; 8:45 am]

BILLING CODE 8320-01-P